DEPARTMENT OF HEALTH AND HUMAN SERVICES

Indian Health Service

Tribal Self-Governance Program Planning Cooperative Agreement; New Discretionary Funding Cycle for Fiscal Year 2004

Funding Opportunity Number: HHS-IHS-TSGP-2004-001.

CFDA Number: 93.210.

DATES: Application Kits sent out—June 28, 2004;

Applications Due—August 2, 2004;

Cost Analysis/Audit Reviews to Determine Eligibility—August 13, 2004;

Objective Review Committee to Evaluate Applications—August 19-20, 2004;

Project Start Date—September 15, 2004.

I. Funding Opportunity Description

The purpose of the program is to award cooperative agreements that provide planning resources to Tribes interested in participating in the Tribal Self-Governance Program (TSGP) as authorized by Title V, Tribal Self-Governance Amendments of 2000 of the Indian Self-Determination and Education Assistance Act of Pub. L. 93-638, as amended. The TSGP is designed to promote self-determination by allowing Tribes to assume more control of Indian Health Service (IHS) programs and services through compacts negotiated with the IHS. The planning cooperative agreement allows a tribe to gather information to determine the current types and amounts of programs, services, functions, and activities (PSFAs), and funding available at the Service Unit, Area, and Headquarters levels and identify programmatic alternatives that will better meet the needs of tribal members.

II. Award Information

Type of Award: Cooperative Agreement.

Estimated Funds Available: The total amount identified for fiscal year (FY) 2004 is $500,000 for approximately ten (10) tribes to enter the TSGP planning process for compacts beginning in FY 2006 or calender year 2006. Awards under this announcement are subject to the availability of funds.

Anticipated Number of Awards: The estimated number of awards to be funded is one to ten.

Project Period: 12 months.

Award Amount: $50,000 per year.

Substantial Programmatic Involvement: IHS TSGP funds will be awarded as cooperative agreements and will have substantial programmatic involvement as follows:

• Research and analysis of the complex IHS budget, at the Service Unit, Area and Headquarters levels.

• Estabishment of a basic understanding of IHS PSFAs operations at the Service Unit, Area, and Headquarters levels.

• Establishment of a process through which tribes can effectively approach IHS to identify programs and associated funding which could be incorporated into programs.

• Identification of IHS staff that will consult with applicants on methods used by IHS to manage and deliver health care.

• Provide applicants with a list of laws and regulations that provide authority for the various IHS programs.

III. Eligibility Information

I. Eligible Applicants

To be eligible for a planning cooperative agreement under this announcement, an applicant must meet all of the following criteria:

A. Be a federally-recognized tribe as defined in Title V, Pub. L. 106-260, Tribal Self-Governance Amendments of 2000, of the Indian Self-Determination and Education Assistance Act (the Act), Pub. L. 93-638, as amended. However, Alaska Native Villages or Alaska Native village corporations, who are located with the area served by an Alaska Native regional health entity already participating in compact status, are not eligible. (Pub. L. 106-260, Title V, Section 12(a)(2).)

B. Request participation in self-governance by resolution or other official action by the governing body of the Indian tribe. An Indian tribe that is proposing a cooperative agreement affecting another Indian tribe must include resolutions from all affected tribes to be served.

C. Demonstrate, for three fiscal years, financial stability and financial management capability, which is defined as no uncorrected significant and material audit exceptions in the required annual audit of the Indian tribe's self-determination contracts or self-governance funding agreements with any Federal agency.

D. Applicants must submit copies of audits prescribed by Pub. L. 98-502, the Single Audit Act, as amended (see OMB Circular A-133, revised June 24, 1979, Audits of States, Local Governments, and Non-Profit Organizations), for the three previous fiscal years (2000, 2001, 2002 or 2001, 2002, 2003).*

*If this documentation is not submitted, the application will be considered as unresponsive and will not be considered.

2. Cost Sharing or Matching Funds

The Self-Governance Planning Cooperative Agreement Announcement does not require matching funds or cost sharing to participate in the competitive grant process.

3. Other Requirements

The following documentation is required (if applicable):

A. This program is described at 93.210 of the Catalog of Federal Domestic Assistance. There is limited competition under this announcement because the authorizing legislation restricts eligibility to Tribes that meet specific criteria. (Refer to Section III, Eligibility Criteria in this announcement.)

B. Tribal Resolution—A resolution of the Indian tribe served by the project must accompany the application submission. An Indian tribe that is proposing a project affecting another Indian tribe must include resolutions from all affected tribes to be served. Draft resolutions are acceptable in lieu of an official resolution. However, an official signed tribal resolution must be received by the Grants Management Branch prior to the beginning of the Objective Review (August 19-20, 2004). If an official signed resolution is not submitted by the date referenced, the application will be considered incomplete and will be returned without consideration.

IV. Application and Submission Information

1. Address to request application package

Interested parties may request a copy of the application kit from either of the following persons:

Ms. Mary E. Trujillo, Office of Tribal Self-Governance, Indian Health Service, 801 Thompson Avenue, Suite 240, Rockville, Maryland 20852; (301) 443-7821.

Ms. Patricia Spotted Horse, Grants Management Branch, Indian Health Service, 801 Thompson Avenue, TMP 100, Rockville, Maryland 20852; (301) 443-5204.

2. Content and Form of Application Submission

A. All applications should:

• Be single spaced.

• Be typewritten.

• Have consecutively numbered pages.

• Use black type not smaller than 12 characters per one inch.

• Be printed on one side only of standard size 8½″ × 11″ paper.

• Not be tabbed, glued, or placed in a plastic holder.

• Contain a narrative that does not exceed 7 typed pages that includes the sections listed below. (The 7 page narrative does not include the work plan, standard forms, Tribal resolution(s), table of contents, budget, budget justifications, narratives, and/or other appendix items.)

Include in the application the following documents in the order presented. The Application Receipt Record, Checklists, General Information Page, Standard Forms, Certifications, and Disclosure of Lobbying Activities documents will be available in the appendix of the application kit.

• Application Receipt Record, IHS-815-1A (Rev. 2/04).

• FY 2005 Application Checklist.

• Tribal Resolution (final signed or draft unsigned).

• Standard Form 424A, Application for Federal Assistance.

• Standard Form 424A, Budget Information—Non-Construction Programs (pages 1-2).

• Standard Form 424B, Assurance—Non-Construction Programs (front and back). The application shall contain assurances to the Secretary that the applicant will comply with program regulations, 42 CFR Part 36, Subpart H.

• Certifications (pages 17-19).

• PHS-5161 Checklist (pages 25-26).

• Disclosure of Lobbying Activities.

• Table of Contents with corresponding numbered pages.

• Project Narrative not to exceed 7 typewritten pages.

• Categorical Budget and Budget Justification.

• Appendix Items.

3. Submission Dates and Times

Applications must be postmarked on or before Monday, August 2, 2004. The IHS is accepting only paper applications at this time. Include one original and two complete copies of the final proposal with all required signatures and documentation. Mark the original application with a cover sheet that states, “Original Grant Application.” Mail or hand-deliver applications to the Division of Grants Management, Indian Health Service, 801 Thompson Avenue, Suite 100, Rockville, Maryland 20852. Please note: All mailed applications must be postmarked on or before August 2, 2004.

Hand Delivered Proposals. Hand-delivered proposals will be accepted from 8 a.m. to 5 p.m. eastern standard time, Monday through Friday. Applications will be considered to meet the deadline if they are received on or before the deadline, with hand-carried applications received by close of business 5 p.m. For mailed applications, a dated, legible receipt from a commercial carrier or the U.S. Postal Service will be accepted in lieu of a postmark. Private metered postmarks will not be accepted as proof of timely mailing. Late applications not accepted for processing will be returned to the applicant and will not be considered for funding. Receipt of applications will be acknowledged via the IHS-815-IA (Rev. 2/04) Application Receipt Record.

4. Intergovernmental Review

Executive Order 12372 requiring intergovernmental review is not applicable to this program.

5. Funding Restrictions

A. Only one planning cooperative agreement will be awarded per applicant.

B. Each planning cooperative agreement shall not exceed $50,000. The available funds are inclusive of direct and indirect costs.

C. Planning awards shall not exceed a maximum period of one year, unless a written request for extension is submitted and approved on a case-by-case basis.

6. Other Submission Requirements

The applicant must comply with the following:

A. Abstract (one page)—Summarizes the project.

B. Application for Federal Assistance (SF-424, Rev. 09/03).

C. Narrative (no more than 7 pages) with time frame chart (one page); pages numbered consecutively, including appendices, and Table of Contents, and should include the following:

(1) Background information on the tribe.

(2) Objectives and activities that provide a description of what will be accomplished.

(3) A line-item budget and narrative justification.

(4) Appendix to include:

a. Resumes or position descriptions of key staff.

b. Contractors/Consultants resumes or qualifications.

c. Proposed Scope of Work.

d. Application Receipt Card (IHS 815-1A, Rev. 2/04).

e. Two copies of a report of health activities that have been performed either through an IHS Self-Governance Health Cooperative Agreement or a comparable health-project.

D. “DUNS” Number. As of October 1, 2003, applicants must have a Dun and Bradstreet (D&B) Data Universal Numbering System (DUNS) number as the Universal identifier when applying for Federal grants or cooperative agreements.

The DUNS number is a nine-digit identification number, which uniquely identifies business entities. There is no charge for applying.

The DUNS number can be obtained by calling (866) 705-5711 or through the Web site at http://www.dunandbradstreet.com. Internet applications for a DUNS number can take up to 30 days to process. It is quicker to obtain one by phone. The following information is needed when requesting a DUNS number:

(1) Organization.

(2) Organization address and telephone number.

(3) Name of CEO, Executive Director, President, etc. (the person in charge).

(4) Legal structure of the organization.

(5) Year organization started.

(6) Primary business (activity) line.

(7) Total number of employees.

V. Application Review Information

The instructions for preparing the application narrative also constitute the evaluation criteria for reviewing and scoring the application. Weights assigned to each section are noted in parentheses.

1. Criteria

Goals and Objectives of the Project (30 Points)

Are the goals and objectives measurable; are they consistent with the purpose of the program and terms of this announcement; and, are they achievable as demonstrated by an implementation schedule?

Organizational Capabilities and Qualifications (25 Points)

Describe the organizational structure of the tribe/tribal organization and the ability of the organization to manage the proposed project. Include resumes or position descriptions of key staff showing requisite experience and expertise and, where applicable, include resumes of consultants that demonstrate experience and expertise relevant to the project.

Methodology (20 Points)

Describe fully and clearly the methodology used to reflect the needs of tribal members and if the project can be accomplished with expected available resources.

Budget justification (15 Points)

Submit a line-item budget with a brief narrative justification for all expenditures. Are costs identified reasonable and allowable in accordance with OMB Circulars A-87m “Cost Principles for State and Local Governments” and A-122, “Cost Principles for Non-Profit Organizations?”

Management of Health Programs(s) (10 Points)

Does the applicant propose an improved approach to managing the health program(s) and state/demonstrate how the delivery of quality health services will be maintained under self-governance?

Appendix Items:

• Work plan for proposed objectives.

• Position descriptions for key staff.

• Resumes of key staff that reflect current duties.

• Consultant proposed scope of work (if applicable).

• Indirect Cost Agreement.

• Organizational chart (optional).

2. Review Selection Process

In addition to the above criteria/requirements, applications are considered according to the following:

A. Application Submission (Application Deadline: August 2, 2004). Applications submitted in advance of or by the deadline and verified by the postmark will undergo a preliminary review to determine that:

(1) The applicant and proposed project type is eligible in accordance with this grant announcement.

(2) The application is not a duplication of a previously funded project.

(3) The application narrative, forms, and materials submitted meet the requirements of the announcement allowing the review panel to undertake an in-depth evaluation; otherwise, it may be returned.

B. Competitive Review of Eligible Applications (Objective Review: August 19-20, 2004). Applications meeting eligibility requirements that are complete, responsive, and conform to this program announcement will be reviewed for merit by the Ad Hoc Objective Review Committee (ORC) appointed by the IHS to review and make recommendations on these applications. The review will be conducted in accordance with the IHS Objective Review Guidelines. The technical review process ensures selection of quality projects in a national competition for limited funding. Applications will be evaluated and rated on the basis of the evaluation criteria listed in Section V.1. The criteria are used to evaluate the quality of a proposed project, determine the likelihood of success, and assign a numerical score to each application. The scoring of approved applications will assist the IHS in determining which proposals will be funded if the amount of TSGP funding is not sufficient to support all approved applications. Applications recommended for approval, having a score of 60 or above by the ORC and scored high enough to be considered for funding, are forwarded by the Division of Grants Management for cost analysis and further recommendation. The program official forwards the final approved list to the IHS Director for final review and approval. Applications scoring below 60 points will be disapproved and returned to the applicant.

Note: In making final selections, the IHS Director will consider the ranking factor and the status of the applicant's single audit reports. The comments from the ORC will be advisory only. The IHS Director will make the final decision on awards.

VI. Award Administration Information

1. Award Notices

Notification: September 15, 2004.

Applicants who are approved but unfunded and disapproved will receive a copy of the Executive Summary which identifies the weaknesses and strengths of the application submitted. Applicants which are approved and funded will be notified through the official Notice of Grant Award (NGA) document. The NGA will serve as the official notification of a grant award and will state the amount of Federal funds awarded, the purpose of the grant, the terms and conditions of the grant award, the effective date of the award, the project period, and the budget period. Any other correspondence announcing to the Project Director that an application was selected is not an authorization to begin performance. Any costs incurred before receipt of the NGA are at the recipient's risk and may be reimbursed only to the extent considered allowable pre-award costs.

2. Administrative and National Policy Requirements

Grants are administered in accordance with the following documents:

• This grant announcement.

• Health and Human Services regulations governing Pub. L. 93-638 grants at 42 CFR 36.101 et seq.

• 45 CFR part 92, “Department of Health and Human Services, Uniform Administrative Requirements for Grants and Cooperative Agreements to State and Local Governments Including Indian Tribes,” or 45 CFR part 74, “Administration of Grants to Non-Profit Recipients.”

• Public Health Service Grants Policy Statement.

• Grants Policy Directives.

• Appropriate Cost Principles: OMB Circular A-87, “State and Local Governments,” or OMB Circular A-122, “Non-Profit Organization.”

• OMB Circular A-133, “Audits of States, Local Governments, and Non-Profit Organization.”

• Other Applicable OMB Circulars.

3. Reporting

A. Progress Report. Program progress reports are required semi-annually. These reports will include a brief comparison of actual accomplishments to the goals established for the period, reasons for slippage (if applicable), and other pertinent information as required. A final report must be submitted within 90 days of expiration of the budget/project period.

B. Financial Status Report. Semi-annual financial status reports must be submitted within 30 days of the end of the half year. Final financial status reports are due within 90 days of expiration of the budget/project period. Standard Form 269 (long form) will be used for financial reporting.

VII. Agency Contact(s)

Interested parties may obtain TSGP programmatic information from Ms. Mary E. Trujillo through the information listed on page 6 of this application kit. Grant related and business management information may be obtained from Ms. Patricia Spotted Horse through the information listed on page 6 of this application kit. Please note that the telephone numbers provided are not toll free.

VIII. Other Information

The Public Health Service (PHS) strongly encourages all grant and contract recipients to provide a smoke-free workplace and promote the non-use of all tobacco products. In addition, Pub. L. 103-227, the Pro-Children Act of 1994, prohibits smoking in certain facilities (or in some cases, any portion of the facility) in which regular or routine education, library, day care, health care or early childhood development services are provided to children. This is consistent with the PHS mission to protect and advance the physical and mental health of the American people.

Dated: June 17, 2004.
Eugenia Tyner-Dawson,
Acting Deputy Director, Indian Health Service.

[FR Doc. 04-14191 Filed 6-22-04; 8:45 am]

BILLING CODE 4160-16-M